FEDERAL COMMUNICATIONS COMMISSION

47 CFR Parts 13 and 97

[WT Docket No. 98-143, RM-9148, RM-9150, RM-9196; FCC 01-108]

Amateur Service Rules

AGENCY: Federal Communications Commission.

ACTION: Final rule; petition for reconsideration.

SUMMARY: This document denies in part and grants in part various petitions for reconsideration of the Report and Order in this proceeding. It also revises part 13 of the rules to ensure the telegraphy requirements for commercial radio operator licenses remain unchanged and it makes minor editorial changes to certain part 97 rules. This action will allow current Amateur Radio Service licensees to contribute more to the advancement of the radio art; reduce the administrative costs that the Commission incurs in regulating this service and streamline our licensing processes; and promote efficient use of spectrum allocated to the Amateur Radio Service.

DATES: Effective July 1, 2001.

FOR FURTHER INFORMATION CONTACT: William T. Cross, Public Safety and Private Wireless Division, Wireless Telecommunications Bureau, (202) 418-0680, TTY (202) 418-7233.

SUPPLEMENTARY INFORMATION: This is a summary of the Commission's Memorandum Opinion and Order, WT Docket No. 98-143, FCC 99-412, adopted March 27, 2001, and released April 6, 2001. The complete text of this document is available for inspection and copying during normal business hours in the FCC's Reference Information Center, 445 12th Street SW., Room CY-A257, Washington, DC. The complete text of this document may also be obtained from the Commission's copy contractor, International Transcription Services, Inc., 1231 20th St., NW., Washington, DC 20036, telephone (202) 857-3800. Alternative formats (computer diskette, large print, audio cassette, and Braille) are available to persons with disabilities by contacting Martha Contee at (202) 418-0620 (voice) or (202) 418-2555 (TTY), or at mcontee@fcc.gov. The complete (but unofficial) text is also available on the Commission's Internet site at http://www.fcc.gov/Bureaus/Wireless/Orders/2001.

Summary of Memorandum Opinion and Order

1. In the Notice of Proposed Rule Making (NPRM) (63 FR 49059, September 14, 1998) in WT Docket No. 98-143, the Commission initiated the instant proceeding to examine the Amateur Radio Service rules in an effort to streamline its licensing processes and eliminate unnecessary and duplicative rules.

2. By its Report and Order, (65 FR 6548, February 10, 2000) the Commission substantially revised the amateur service license structure by streamlining our licensing processes and eliminating unnecessary and duplicative rules. This Memorandum Opinion and Order addresses pending petitions for reconsideration of the Report and Order. Because the petitioners' suggested clarifications generally already were considered and rejected, or because they are beyond the scope of the proceeding, the Commission has not modified any part 97 provisions based on the petitions. The Commission granted the request of petitioners that the amateur service database distinguish between Technician and Technician Plus Class licensees, however, to the extent that these database changes already have been implemented. Additionally, on its own motion, the Commission adopted changes to its part 13 rules to ensure the telegraphy requirements for commercial radio operator licenses remain unchanged and the Commission made minor editorial changes to certain part 97 rules.

3. The Regulatory Flexibility Act (RFA) requires that an agency prepare a regulatory flexibility analysis for notice-and-comment rulemaking proceedings, unless the agency certifies that “the rule will not, if promulgated, have a significant economic impact on a substantial number of small entities.” 5 U.S.C. 605(b). In the NPRM, the Commission certified that the proposed rule amendments, if promulgated, would not have a significant economic impact on a substantial number of small business entities, as defined in section 601(3) of the RFA because the rule amendments do not apply to small business entities. Rather, these rules apply to individuals who are interested in radio technique solely with a personal aim and without pecuniary interest. No comments were received concerning this certification. The Commission now affirms this certification with respect to the rules adopted in this Memorandum Opinion and Order. Accordingly, because small business entities, as defined in section 601(3) of the RFA, are not eligible to make an application for an amateur service license or be a licensee in the amateur service, the Commission certifies, pursuant to section 605(b) of the RFA, that the rules adopted herein will not have a significant economic impact on a substantial number of small entities, as defined in the RFA.

List of Subjects

47 CFR Part 13

Radio.

47 CFR Part 97

Radio, Volunteers.

Federal Communications Commission.
Magalie Roman Salas,
Secretary.

Rule Changes

For the reasons discussed in the preamble, the Federal Communications Commission amends 47 CFR parts 13 and 97 as follows:

PART 13—COMMERCIAL RADIO OPERATORS

1. The authority citation for part 13 continues to read as follows:

Authority: Secs. 4, 303, 48 Stat. 1066, 1082 as amended; 47 U.S.C. 154, 303.

2. Section 13.9 is amended by revising paragraph (d)(2) to read as follows:

§ 13.9 Eligibility and application for new license or endorsement.

* * * * *

(d) * * *

(2) An expired or unexpired FCC-issued Amateur Extra Class operator license grant granted before April 15, 2000: Telegraphy Elements 1 and 2.

* * * * *

3. Section 13.13 is amended by revising paragraph (d)(2) to read as follows:

§ 13.13 Application for a renewed or modified license.

* * * * *

(d) * * *

(2) An expired or unexpired FCC-issued Amateur Extra Class operator license document granted before April 15, 2000: Telegraphy Elements 1 and 2.

PART 97—AMATEUR RADIO SERVICE

4. The authority citation for part 97 continues to read as follows:

Authority: 48 Stat. 1066, 1082, as amended; 47 U.S.C. 154, 303. Interpret or apply 48 Stat. 1064-1068, 1081-1105, as amended; 47 U.S.C. 151-155, 301-609, unless otherwise noted.

5. Section 97.3 is amended by revising paragraphs (a)(35) and (b) introductory text to read as follows:

§ 97.3 Definitions.

(a) * * *

(35) Question set. A series of examination questions on a given examination selected from the question pool.

* * * * *

(b) The definitions of technical symbols used in this part are:

* * * * *

6. Section 97.119 is amended by removing paragraph (f)(3), revising paragraph (f)(2), and by redesignating paragraph (f)(4) as (f)(3) and revising newly redesignated paragraph (f)(3) to read as follows:

§ 97.119 Station identification.

* * * * *

(f) * * *

(2) For a control operator who has requested a license modification from Novice, Technician, or Technician Plus Class to General Class: AG;

(3) For a control operator who has requested a license modification from Novice, Technician, Technician Plus, General, or Advanced Class to Amateur Extra Class: AE.

* * * * *

7. Section 97.527 is revised to read as follows:

§ 97.527 Reimbursement for expenses.

VEs and VECs may be reimbursed by examinees for out-of-pocket expenses incurred in preparing, processing, administering, or coordinating an examination for an amateur operator license.

[FR Doc. 01-10225 Filed 4-24-01; 8:45 am]

BILLING CODE 6712-01-U